DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Project to Assess Race, Ethnicity, and Gender of Clients and Staff at Selected BPHC Supported Programs—New.

The Office of Minority and Women's Health (OMWH), in the Bureau of Primary Health Care (BPHC), Health Resources and Services Administration (HRSA), recognizes that information on the race, ethnicity, and gender of clients and staff employed at BPHC supported programs is important in determining the extent to which BPHC supported programs reflect the populations they serve. HRSA's strategic goal is to assure 100% access to health care and to work toward the elimination of health disparities in the U.S. The OMWH proposes to conduct a survey for the purpose of obtaining baseline data on the racial, ethnic, and gender composition of both users and staff at its supported programs.

Numerous studies have shown that women and people of diverse racial and ethnic background are more comfortable seeking and receiving health care from providers of their same gender, race, and ethnic background. These studies suggest that women and people of diverse race/ethnicity perceive that their health care is more attuned to their unique health and psychosocial circumstances when diverse providers are available to them. A diverse workforce in BPHC supported programs may contribute significantly to the reduction of a significant psychological barrier to health care for many women and people of color.

The burden estimate for this project is as follows:

Form | Number of respondents | Responses per respondent | Total responses | Hours per response | Total hour burden
Center Directors | 150 | 1 | 150 | .25 | 38
Center Staff | ¹ 150 | 28 | 4200 | .08 | 336
Total |  |  | 4350 |  | 374
¹ Sites.

Send comments to Susan G. Queen, Ph.D., HRSA Reports Clearance Officer, Room 14-33, Parklawn Building, 5600 Fishers Lane, Rockville, MD 20857. Written comments should be received within 60 days of this notice.

Dated: April 17, 2001.
James J. Corrigan,
Associate Administrator for Management and Program Support.

[FR Doc. 01-10228 Filed 4-24-01; 8:45 am]

BILLING CODE 4160-15-P